DEPARTMENT OF ENERGY

Federal Energy Regulatory Commission

Combined Notice of Filings # 1

May 20, 2009.

Take notice that the Commission received the following electric rate filings:

Docket Numbers: ER08-1574-003.

Applicants: ORNI 18, LLC.

Description: Notice of Non-Material Change in Status of ORNI 18, LLC.

Filed Date: 05/18/2009.

Accession Number: 20090518-5061.

Comment Date: 5 p.m. Eastern Time on Monday, June 8, 2009.

Docket Numbers: ER09-1141-000.

Applicants: J.P. Morgan Commodities Canada Corporation.

Description: JP Morgan Commodities Canada Corp submits Petition for Acceptance of Initial Tariff, Waivers and Blanket Authority and Request for Expedited Consideration, FERC Electric Tariff, Original Volume 1, effective 6/15/09.

Filed Date: 05/15/2009.

Accession Number: 20090518-0305.

Comment Date: 5 p.m. Eastern Time on Friday, June 5, 2009.

Docket Numbers: ER09-1144-000.

Applicants: ISO New England Inc., New England Power Pool.

Description: ISO New England Inc et al submits further revisions to the Forward Capacity Market rules.

Filed Date: 05/15/2009.

Accession Number: 20090518-0313.

Comment Date: 5 p.m. Eastern Time on Friday, June 5, 2009.

Docket Numbers: ER09-1149-000.

Applicants: Ameren Services Company.

Description: Union Electric Company submits Original Service Agreement 2027 to FERC Electric Tariff, Third Revised Volume 1.

Filed Date: 05/15/2009.

Accession Number: 20090518-0311.

Comment Date: 5 p.m. Eastern Time on Friday, June 5, 2009.

Docket Numbers: ER09-1150-000.

Applicants: Entergy Services, Inc.

Description: Entergy Arkansas, Inc et al submits an unexecuted Network Integration Transmission Service Agreement and Network Operating Agreement and the Missouri Joint Municipal Electric Utility Commission etc.

Filed Date: 05/15/2009.

Accession Number: 20090518-0309.

Comment Date: 5 p.m. Eastern Time on Friday, June 5, 2009.

Docket Numbers: ER09-1151-000.

Applicants: Trans-Allegheny Interstate Line Company.

Description: Trans-Allegheny Interstate Line Company submits Second Revised Sheet 314l.03 et al to its FERC Electric Tariff, Sixth Revised Volume 1.

Filed Date: 05/15/2009.

Accession Number: 20090518-0312.

Comment Date: 5 p.m. Eastern Time on Friday, June 5, 2009.

Docket Numbers: ER09-1152-000.

Applicants: Southwest Power Pool Inc.

Description: Southwest Power Pool, Inc submits an unexecuted Large Generator Interconnection Agreement with Sunflower Electric Power Corp et al.

Filed Date: 05/15/2009.

Accession Number: 20090518-0304.

Comment Date: 5 p.m. Eastern Time on Friday, June 5, 2009.

Docket Numbers: ER09-1153-000.

Applicants: ISO New England Inc.

Description: ISO New England, Inc submits its Capital Projects Report and schedule of the unamortized costs of the ISO's funded capital expenditures for quarter ending 3/31/09, to be effective 4/1/09.

Filed Date: 05/15/2009.

Accession Number: 20090518-0308.

Comment Date: 5 p.m. Eastern Time on Friday, June 5, 2009.

Docket Numbers: ER09-1154-000.

Applicants: UNS Electric, Inc.

Description: UNS Electric, Inc submits Second Revised Sheet 90A et al. to FERC Electric Tariff, First Revised Volume 1 to Attachment C of its Open Access Transmission Tariff.

Filed Date: 05/15/2009.

Accession Number: 20090518-0307.

Comment Date: 5 p.m. Eastern Time on Friday, June 5, 2009.

Docket Numbers: ER09-1155-000.

Applicants: American Electric Power Service Corporation.

Description: American Electric Power Service Corp submits a fully executed Letter Agreement dated 41/6/09 with FPL Elk City Wind, LLC.

Filed Date: 05/15/2009.

Accession Number: 20090518-0306.

Comment Date: 5 p.m. Eastern Time on Friday, June 5, 2009.

Docket Numbers: ER09-1161-000.

Applicants: Ashtabula Wind, LLC.

Description: Ashtabula Wind, LLC submits the Amended and Restated Common Facilities Agreement by and between Otter Tail Corporation as Licensee and Ashtabula Wind as owner, designated Rate Schedule FERC 1.

Filed Date: 05/15/2009.

Accession Number: 20090518-0310.

Comment Date: 5 p.m. Eastern Time on Friday, June 5, 2009.

Docket Numbers: ER09-1162-000.

Applicants: Commonwealth Edison Company.

Description: Commonwealth Edison's Section 205 filing.

Filed Date: 05/15/2009.

Accession Number: 20090518-0315.

Comment Date: 5 p.m. Eastern Time on Friday, June 5, 2009.

Take notice that the Commission received the following public utility holding company filings:

Docket Numbers: PH09-18-000.

Applicants: Buckeye Power, Inc., Buckeye Power Generating, LLC.

Description: FERC-65A Exemption Notification of Buckeye Power, Inc.

Filed Date: 05/15/2009.

Accession Number: 20090515-5142.

Comment Date: 5 p.m. Eastern Time on Friday, June 5, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. E9-12352 Filed 5-27-09; 8:45 am]

BILLING CODE 6717-01-P